Title 3—

The President

Memorandum of September 25, 2008

Assignment of Function Under Section 203(e)(2)(A) of the Andean Trade Preference Act, As Amended

Memorandum for the United States Trade Representative

I propose to suspend Bolivia's designation as a beneficiary country under the Andean Trade Preference Act, as amended (the “Act”), and as an Andean Trade Promotion and Drug Eradication Act beneficiary country.

By virtue of the authority vested in me by the Constitution and laws of the United States, including section 301 of title 3 of the United States Code and the Act, you are hereby assigned the function vested in me by section 203(e)(2)(A) of the Act (19 U.S.C. 3202(e)(2)(A)), to publish a notice in the Federal Register announcing the proposed action set forth above.

You are authorized and directed to publish this memorandum in the Federal Register.

THE WHITE HOUSE,

Washington, September 25, 2008

[FR Doc. E8-23078

Filed 9-26-08; 12:30 pm]

Billing code 3190-01-M